DEPARTMENT OF EDUCATION

Reopening; Applications for New Awards; Promise Neighborhoods Program

AGENCY: Office of Elementary and Secondary Education, Department of Education.

ACTION: Notice; reopening of application period.

SUMMARY: On June 29, 2022, the Department of Education (Department) published in the Federal Register a notice inviting applications (NIA) for the fiscal year (FY) 2022 Promise Neighborhoods competition, Assistance Listing Number 84.215N. The NIA established a deadline date of September 27, 2022, for transmittal of applications, which was subsequently extended until October 7, 2022. This notice reopens this competition to allow more time for the preparation and submission of applications by eligible applicants that are affected applicants (as described in Eligibility below), located in Puerto Rico, portions of Alaska covered by a Presidential major disaster declaration, and areas under a Presidential major disaster or emergency declaration resulting from Hurricane Ian, which includes Florida, the Seminole Tribe of Florida, North Carolina, and South Carolina.

DATES: Deadline for Transmittal of Applications for Affected Applicants: October 21, 2022.

FOR FURTHER INFORMATION CONTACT: Rich Wilson, U.S. Department of Education, 400 Maryland Avenue SW, Room 3W101, Washington, DC 20202-6450. Telephone: (202) 453-6709. Email: Richard.Wilson@ed.gov.

If you are deaf, hard of hearing, or have a speech disability and wish to access telecommunications relay services, please dial 7-1-1.

SUPPLEMENTARY INFORMATION: On June 29, 2022, we published the NIA for the FY 2022 Promise Neighborhoods competition in the Federal Register (87 FR 38719). On July 25, 2022, we published an extension notice in the Federal Register (87 FR 44107) because Grants.gov, the system used to submit applications electronically, was closed for site maintenance from September 23-29, 2022. We are reopening this competition for affected applicants described below to allow them more time—until October 21, 2022—to prepare and submit their applications.

Eligibility: The reopening of this competition applies to eligible applicants under the Promise Neighborhoods program that are affected applicants. An eligible applicant for this competition is defined in the NIA. To qualify as an affected applicant, the applicant must have a mailing address that is located in a jurisdiction that is part of one of the applicable federally declared disaster areas and must provide appropriate supporting documentation, if requested.

The affected areas are those in which assistance to individuals or public assistance has been authorized under the following FEMA declarations:

• Puerto Rico (https://www.fema.gov/disaster/4671);

• Portions of Alaska covered by a Presidential major disaster declaration (https://www.fema.gov/disaster/4672);

• Florida (https://www.fema.gov/disaster/4673);

• The Seminole Tribe of Florida (https://www.fema.gov/disaster/4675);

• North Carolina (https://www.fema.gov/disaster/3586); and • South Carolina (https://www.fema.gov/disaster/3585).

Affected applicants that have already timely submitted applications under the FY 2022 Promise Neighborhood competition may submit a new application on or before the new application deadline of October 21, 2022, but they are not required to do so. If a new application is not submitted, the Department will use the application that was submitted by the original (or first extended) deadline. If a new application is submitted, the Department will consider the application that is last submitted and timely received by 11:59:59 p.m., Eastern Time, on October 21, 2022. Any application submitted by an affected applicant under the new deadline must contain evidence (e.g., the applicant organization mailing address) that the applicant is located in one of the applicable federally declared disaster areas and, if requested, must provide appropriate supporting documentation.

We are not reopening the application period for all applicants. Applications from applicants that are not affected, as defined above, will not be accepted past the October 7, 2022, deadline.

Note: All information in the NIA for this competition remains the same, except for the deadline date for affected applicants.

Program Authority: 20 U.S.C. 7273-7274.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

James F. Lane,
Senior Advisor, Office of the Secretary, Delegated the Authority to Perform the Functions and Duties of the Assistant Secretary for the Office, Elementary and Secondary Education.

[FR Doc. 2022-22424 Filed 10-13-22; 8:45 am]

BILLING CODE 4000-01-P